DEPARTMENT OF HOMELAND SECURITY

Federal Emergency Management Agency

[Docket ID FEMA-2021-0002; Internal Agency Docket No. FEMA-B-2114]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 12, 2021.

ADDRESSES: The Preliminary FIRM, and where applicable, the FIS report for each community are available for inspection at both the online location https://hazards.fema.gov/femaportal/prelimdownload/ and the respective Community Map Repository address listed in the tables below. Additionally, the current effective FIRM and FIS report for each community are accessible online through the FEMA Map Service Center at https://www.msc.fema.gov for comparison.

You may submit comments, identified by Docket No. FEMA-B-2114, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload/ and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Dickinson County, Kansas and Incorporated Areas
Project: 17-07-0009S Preliminary Date: January 15, 2021
City of Solomon | City Office, 116 West Main Street, Solomon, KS 67480.
Unincorporated Areas of Dickinson County | Dickinson County Courthouse, 109 East 1st Street, Suite 202, Abilene, KS 67410.
Allegan County, Michigan (All Jurisdictions)
Project: 14-05-0526S Preliminary Date: September 30, 2019 and November 30, 2020
City of Allegan | City Hall, 231 Trowbridge Street, Allegan, MI 49010.
City of Fennville | City Hall, 125 South Maple Street, Fennville, MI 49408.
City of Holland | City Hall, 270 South River Avenue, Holland, MI 49423.
City of Otsego | City Hall, 117 East Orleans Street, Otsego, MI 49078.
City of Plainwell | City Hall, 211 North Main Street, Plainwell, MI 49080.
City of Saugatuck | City Hall, 102 Butler Street, Saugatuck, MI 49453.
City of the Village of Douglas | City Hall, 86 West Center Street, Douglas, MI 49406.
City of Wayland | City Hall, 103 South Main Street, Wayland, MI 49348.
Township of Allegan | Township Hall, 3037 118th Avenue, Allegan, MI 49010.
Township of Casco | Casco Township Hall, 7104 107th Avenue, South Haven, MI 49090.
Township of Cheshire | Cheshire Township Hall, 471 41st Street, Allegan, MI 49010.
Township of Clyde | Clyde Township Hall, 1679 56th Street, Fennville, MI 49408.
Township of Dorr | Township Hall, 4196 18th Street, Dorr, MI 49323.
Township of Fillmore | Fillmore Township Hall, 4219 52nd Street, Holland, MI 49423.
Township of Ganges | Ganges Township Hall, 1904 64th Street, Fennville, MI 49408.
Township of Gun Plain | Gun Plain Township Hall, 381 8th Street, Plainwell, MI 49080.
Township of Heath | Heath Township Hall, 3440 M-40, Hamilton, MI 49419.
Township of Hopkins | Township Hall, 118 East Main Street, Hopkins, MI 49328.
Township of Laketown | Laketown Township Hall, 4338 Beeline Road, Holland, MI 49423.
Township of Lee | Lee Township Hall, 877 56th Street, Pullman, MI 49450.
Township of Leighton | Leighton Township Hall, 4451 12th Street, Suite A, Wayland, MI 49348.
Township of Manlius | Manlius Township Hall, 3134 57th Street, Fennville, MI 49408.
Township of Martin | Township Hall, 998 Templeton Street, Martin, MI 49070.
Township of Monterey | Monterey Township Hall, 2999 30th Street, Allegan, MI 49010.
Township of Otsego | Township Hall, 400 North 16th Street, Otsego, MI 49078.
Township of Overisel | Overisel Township Hall, A-4307 144th Avenue, Holland, MI 49423.
Township of Salem | Salem Township Hall, 3003 142nd Avenue, Burnips, MI 49314.
Township of Saugatuck | Township Hall, 3461 Blue Star Highway, Saugatuck, MI 49453.
Township of Trowbridge | Trowbridge Township Hall, 913 M-40 South, Allegan, MI 49010.
Township of Valley | Valley Township Hall, 2054 North M-40, Allegan, MI 49010.
Township of Watson | Watson Township Hall, 1895 118th Avenue, Allegan, MI 49010.
Township of Wayland | Wayland Township Hall, 1060 129th Avenue, Shelbyville, MI 49344.
Village of Hopkins | Village Hall, 128 South Franklin Street, Hopkins, MI 49328.
Cheboygan County, Michigan (All Jurisdictions)
Project: 14-05-2322S Preliminary Date: September 29, 2020 and January 12, 2021
City of Cheboygan | City Hall, 403 North Huron Street, Cheboygan, MI 49721.
Township of Beaugrand | Beaugrand Township Hall, 1999 Old Mackinaw Road, Cheboygan, MI 49721.
Township of Benton | Benton Township Hall, 5012 Orchard Beach Road, Cheboygan, MI 49721.
Township of Mackinaw | Mackinaw Township Hall, 10595 Wallick Road, Mackinaw City, MI 49701.
Village of Mackinaw City | Village Hall, 102 South Huron Avenue, Mackinaw City, MI 49701.
Iron County, Wisconsin and Incorporated Areas
Project: 17-05-0948S Preliminary Date: July 8, 2020
City of Hurley | City Hall, 405 5th Avenue North, Hurley, WI 54534.
City of Montreal | City Hall, 54 Wisconsin Avenue, Montreal, WI 54550.
Unincorporated Areas of Iron County | Iron County Comprehensive Planning, Land and Zoning Department, 300 Taconite Street, Suite 115, Hurley, WI 54534.

[FR Doc. 2021-07465 Filed 4-9-21; 8:45 am]

BILLING CODE 9110-12-P